DEPARTMENT OF HOMELAND SECURITY

Coast Guard

33 CFR Parts 100 and 165

[USCG-2003-15813]

Safety Zones, Security Zones, and Special Local Regulations

AGENCY: Coast Guard, DHS.

ACTION: Notice of temporary rules issued.

SUMMARY: This document provides required notice of substantive rules issued by the Coast Guard and temporarily effective between April 1, 2003 and June 30, 2003, that were not published in the Federal Register. This quarterly notice lists temporary local regulations, security zones, and safety zones of limited duration and for which timely publication in the Federal Register was not possible.

DATES: This notice lists temporary Coast Guard rules that became effective and were terminated between April 1, 2003 and June 30, 2003.

ADDRESSES: The Docket Management Facility maintains the public docket for this notice. Documents indicated in this notice will be available for inspection or copying at the Docket Management Facility, U.S. Department of Transportation, Room PL-401, 400 Seventh SW., Washington, DC 20593-0001 between 9 a.m. and 5 p.m., Monday through Friday, except Federal Holidays. You may electronically access the public docket for this notice on the Internet at http://dms.dot.gov.

FOR FURTHER INFORMATION CONTACT: For questions on this notice, contact LT Sean Fahey, Office of Regulations and Administrative Law, telephone (202) 267-2830. For questions on viewing, or on submitting material to the docket, contact Dorothy Beard, Chief, Dockets, Department of Transportation at (202) 366-5149.

SUPPLEMENTARY INFORMATION: Coast Guard District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, security zones, or safety zones by Coast Guard officials on-scene prior to any enforcement action. However, the Coast Guard, by law, must publish in the Federal Register notice of substantive rules adopted. To meet this obligation without imposing undue expense on the public, the Coast Guard periodically publishes a list of these temporary special local regulations, security zones and safety zones. Permanent rules are not included in this list because they are published in their entirety in the Federal Register. Temporary rules may also be published in their entirety if sufficient time is available to do so before they are placed in effect or terminated. The safety zones, special local regulations are security zones listed in this notice have been exempted from review under Executive Order 12866, Regulatory Planning and Review, because of their emergency nature, or limited scope and temporary effectiveness.

The following rules were placed in effect temporarily during the period from April 1, 2003, through June 30, 2003, unless otherwise indicated.

Dated: August 4, 2003.
S.G. Venckus,
Chief, Office of Regulations and Administrative Law.

COTP Quarterly Report—2nd Quarter 2003
COTP docket | Location | Type | Effective date
Charleston 03-093 | Charleston, SC | Safety Zone | 5/31/2003
Jacksonville 03-055 | St. Johns River, Jacksonville, FL | Safety Zone | 4/26/2003
Jacksonville 03-059 | Atlantic Ocean, Cocoa Beach, FL | Safety Zone | 4/26/2003
Jacksonville 03-061 | Banana River, Cocoa Beach, FL | Safety Zone | 4/25/2003
Jacksonville 03-074 | Fernandina Beach, FL | Safety Zone | 5/2/2003
Jacksonville 03-096 | Indian River, New Smyrna Beach, FL | Safety Zone | 6/28/2003
Louisville 03-002 | Cincinnati Offshore Grand Prix, Ohio River | Safety Zone | 6/14/2003
Memphis 03-001 | McCellan-Kerr Arks. Riv. M. 335.3 to 336.3 | Safety Zone | 5/15/2003
Miami 03-065 | West Palm Beach, FL | Safety Zone | 5/29/2003
Miami 03-066 | Port Everglades, Fort Lauderdale, FL | Security Zone | 4/28/2003
Miami 03-067 | Fort Lauderdale, FL | Safety Zone | 5/3/2003
Miami 03-068 | Sun Fest West Palm Beach, FL | Safety Zone | 5/2/2003
New Orleans 03-008 | LWR Mississippi River, M. 94 | Safety Zone | 4/12/2003
New Orleans 03-009 | LWR Mississippi River, M. 19 to 21 | Safety Zone | 4/12/2003
New Orleans 03-010 | LWR Mississippi River, M. 430 | Safety Zone | 4/15/2003
New Orleans 03-011 | LWR Mississippi River, Passes, LA | Security Zone | 4/9/2003
New Orleans 03-012 | Inner Harbor Nav. Canal, New Orleans, LA | Safety Zone | 4/15/2003
Paducah 03-007 | Upper Mississippi River, M. 51.5 to 52.5 | Safety Zone | 4/7/2003
Paducah 03-008 | Upper Mississippi River, M. 51.5 to 52.5 | Safety Zone | 4/10/2003
Paducah 03-011 | Ohio River, M. 962 to 963 | Safety Zone | 4/29/2003
Paducah 03-012 | Upper Mississippi River, M. 51.5 to 52.5 | Safety Zone | 5/1/2003
Paducah 03-013 | Tennessee River, M. 446 to 475 | Safety Zone | 5/6/2003
Philadelphia 03-018 | Delaware Bay and River | Security Zone | 6/6/2003
Pittsburgh 03-003 | Allegheny River, M. 0.3 to 0.7 | Safety Zone | 4/8/2003
Pittsburgh 03-004 | Allegheny River, M. 0.3 to 0.7 | Safety Zone | 4/19/2003
Pittsburgh 03-005 | Monogahela River, M. 97.5 to 98.5 | Safety Zone | 5/9/2003
Port Arthur 03-003 | Gulf Intracoastal Water, M. 319 | Safety Zone | 4/15/2003
Port Arthur 03-004 | Port Arthur Ship Canal, Port Arthur, TX | Safety Zone | 5/15/2003
Port Arthur 03-005 | Port Arthur Ship Canal, Port Arthur, TX | Safety Zone | 5/16/2003
Port Arthur 03-006 | Neches River, Port Neches, TX | Safety Zone | 5/21/2003
Port Arthur 03-007 | Port Arthur Ship Canal, Port Arthur, TX | Safety Zone | 6/10/2003
San Diego 03-016 | National City Marine Terminal, San Diego | Security Zone | 4/25/2003
San Diego 03-020 | Naval Base Coronado, San Diego, California | Security Zone | 5/1/2003
San Diego 03-021 | Colorado River | Safety Zone | 5/9/2003
San Diego 03-024 | Laughlin, Nevada | Safety Zone | 5/25/2003
San Francisco 03-006 | Suisun Bay, Concord, CA | Security Zone | 4/5/2003
San Francisco 03-007 | Oakland Inner Harbor, Oakland, CA | Security Zone | 4/30/2003
San Francisco Bay 03-011 | Oakland Inner Harbor, Oakland, CA | Safety Zone | 6/7/2003
San Francisco Bay 03-012 | Oakland Estuary, Alameda, CA | Security Zone | 6/12/2003
San Francisco Bay 03-013 | Pillar Point, California | Safety Zone | 6/12/2003
San Francisco Bay 03-015 | San Francisco Bay, San Francisco, CA | Security Zone | 6/27/2003
San Francisco Bay 03-016 | Half Moon Bay and Vicinity of Pillar Pt., CA | Safety Zone | 6/24/2003
San Francisco Bay 03-018 | Half Moon Bay and Vicinity of Pillar Pt., CA | Safety Zone | 6/26/2003
San Juan 03-063 | San Juan, Puerto Rico | Security Zone | 4/16/2003
San Juan 03-084 | San Juan, Puerto Rico | Security Zone | 5/14/2003
Savannah 03-056 | Savannah River, Savannah, GA | Security Zone | 4/2/2003
Savannah 03-064 | Savannah River, Savannah, GA | Security Zone | 4/18/2003
Savannah 03-070 | Brunswick River, Brunswick, GA | Safety Zone | 4/24/2003
Savannah 03-077 | Savannah River, Savannah, GA | Security Zone | 5/8/2003
Savannah 03-085 | Savannah River, Savannah, GA | Security Zone | 5/21/2003
Savannah 03-086 | Savannah River, Savannah, GA | Safety Zone | 5/20/2003
St. Louis 03-003 | Upper Mississippi River M. 403.5 to 404.5 | Safety Zone | 6/22/2003
Tampa 03-058 | Clearwater Harbor, Florida | Security Zone | 4/5/2003

District Quarterly Report—2nd Quarter 2003
District docket | Location | Type | Effective date
01-03-015 | Hudson River, Middle Ground Flats, Hudson, NY | Safety Zone | 6/14/2003
01-03-032 | Branford, CT | Safety Zone | 6/21/2003
01-03-046 | Bridgeport, CT | Safety Zone | 5/17/2003
01-03-048 | New London, CT | Security Zone | 5/21/2003
01-03-049 | Boston Harbor Fireworks, Boston, Mass | Safety Zone | 6/29/2003
01-03-052 | JFK Library, Boston, MA | Safety Zone | 5/28/2003
01-03-055 | Vietnam Veterans Fireworks, East Haven, CT | Safety Zone | 6/29/2003
01-03-056 | Harkness Fireworks Display, Waterford, CT | Safety Zone | 6/28/2003
01-03-058 | Godfrey Wedding Fireworks, Westport, CT | Safety Zone | 6/28/2003
01-03-077 | ISC Boston, MA | Safety/Security | 6/27/2003
05-03-039 | Neuse River, New Bern, NC | Special Local | 5/3/2003
05-03-041 | Williamsburg, Virginia | Safety Zone | 4/29/2003
05-03-044 | Hampton Roads, Elizabeth Riber, VA | Security Zone | 5/6/2003
05-03-045 | Hampton Roads, Elizabeth River, VA | Security Zone | 5/4/2003
05-03-052 | Atlantic Ocean, Point Pleasant Beach | Special Local Reg | 6/22/2003
05-03-053 | Isle of Wight Bay, Ocean City, Maryland | Safety Zone | 5/26/2003
05-03-054 | Tappahannock, Virginia | Safety Zone | 5/30/2003
05-03-055 | Chester River, Chestertown, MD | Special Local Reg | 6/28/2003
05-03-067 | Hampton Roads, Elizabeth River, VA | Security Zone | 6/11/2003
05-03-069 | Hampton Roads, Elizabeth River, VA | Security Zone | 6/14/2003
05-03-070 | Hampton Roads, Elizabeth, River, VA | Security Zone | 6/16/2003
05-03-071 | Patapsco River, Baltimore, Maryland | Safety Zone | 6/14/2003
09-03-220 | Muskego Lake, Muskegon, MI | Safety Zone | 6/7/2003

[FR Doc. 03-20193 Filed 8-7-03; 8:45 am]

BILLING CODE 4910-15-M